SECURITIES AND EXCHANGE COMMISSION

[File No. 500-1]

WAMEX Holdings, Inc.; Order of Suspension of Trading

June 14, 2000.

It appears to the Securities and Exchange Commission that there is a lack of current and accurate information concerning the securities of WAMEX Holdings, Inc. (“WAMEX”) because of questions regarding the accuracy of assertions by WAMEX, and by others, in documents sent to and statements made to market makers of the stock of WAMEX, other broker-dealers, and to investors concerning: (1) WAMEX's ability to comply with the Commission's regulations regarding the operation of an Alternative Trading System; and (2) funds purportedly raised by WAMEX from private investors. In addition, recent market activity in WAMEX securities may be the result of manipulative conduct or other illegal activity.

The Commission is of the opinion that the public interest and the protection of investors require a suspension of trading in the securities of the above listed company.

Therefore, it is ordered, pursuant to section 12(k) of the Securities Act of 1934, that trading in the above listed company is suspended for the period from 9:30 a.m. EDT, June 14, 2000 through 11:59 p.m. EDT, on June 27, 2000.

By the Commission.
Margaret H. McFarland,
Deputy Secretary.

[FR Doc. 00-15443 Filed 6-14-00; 4:59 pm]

BILLING CODE 8010-01-M